DEPARTMENT OF TRANSPORTATION

Pipeline and Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before July 28, 2011.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington, DC or at http://regulations.gov.

This notice of receipt of applications for special permit is published in accordance with Part 107 of the Federal hazardous materials transportation law (49 U.S.C. 5117(b); 49 CFR 1.53(b)).

Issued in Washington, DC on June 20, 2011.
Donald Burger,
Chief, General Approvals and Permits.

New Special Permits
Application No. | Docket No. | Applicant | Regulation(s) affected | Nature of special permits thereof
15347-N |  | Raytheon Missile Systems Company, Tucson, AZ | 49 CFR 173.301, 173.302 and 173.306 | To authorize the transportation in commerce of helium in non-DOT specification packaging (cryoengines and assemblies of Maverick Missiles, Gudance Control Sections and Training Guidance Missiles containing cryoengines). (modes 1, 3, 5).
15364-N |  | Winco Fireworks International, LLC, Lone Jack, MO | 49 CFR 172.302 and 173.60-173.62 | To authorize the transportation in commerce of Fireworks 1.4G, UN0336 in alternative packaging by motor vehicle. (mode 1).
15368-N |  | Shannon & Wilson, Inc., Fairbanks, AL | 49 CFR 173.4 and 173.4a | To authorize the transportation in commerce of methanol mixtures as small quantities when the amount of material exceeds 30 ml. (modes 1, 4, 5, 6).
15372-N |  | Takata de Mexico, S.A. de C.V. Ciudad Frontera, Co | 49 CFR 173.301(a), 173.302(a), 178.65(f)(2) | To authorize the manufacture, marking, sale and use of non-DOT specification pressure vessels for use as components of safety systems. (modes 1, 2, 3, 4, 5).
15373-N |  | Flinn Scientific Inc., Batavia, IL | 49 CFR 173.13(c)(2) | To authorize the manufacture, mark, sale and use of the specially designed combination packagings described herein for transportation in commerce of the materials listed in paragraph 6 without hazard labels or placards, with quantity limits not exceeding 25 grams. (mode 1).

[FR Doc. 2011-15787 Filed 6-27-11; 8:45 am]

BILLING CODE 4909-60-M